DEPARTMENT OF ENERGY

Federal Energy Regulatory Commission

Combined Notice of Filings #2

Take notice that the Commission received the following electric rate filings:

Docket Numbers: ER15-1196-004.

Applicants: Nevada Power Company.

Description: Compliance filing: OATT Revisions Attachment P Schedule 9 and Definitions to be effective 11/1/2015.

Filed Date: 9/1/15.

Accession Number: 20150901-5204.

Comments Due: 5 p.m. ET 9/22/15.

Docket Numbers: ER15-2304-001.

Applicants: Oildale Energy LLC.

Description: Tariff Amendment: Amendment to Initial Market-Based Rate Tariff Application to be effective 7/31/2015.

Filed Date: 8/28/15.

Accession Number: 20150828-5143.

Comments Due: 5 p.m. ET 9/8/15.

Docket Numbers: ER15-2588-000.

Applicants: Eastside Power Authority.

Description: Petition of Eastside Power Authority for Limited Waiver of the California Independent System Operator Corporation's Tariff Provisions.

Filed Date: 9/1/15.

Accession Number: 20150901-5168.

Comments Due: 5 p.m. ET 9/22/15.

Docket Numbers: ER15-2589-000.

Applicants: CPV Shore, LLC.

Description: Initial rate filing: Reactive Power Service Rate Schedule to be effective 1/1/2016.

Filed Date: 9/1/15.

Accession Number: 20150901-5187.

Comments Due: 5 p.m. ET 9/22/15.

Docket Numbers: ER15-2590-000.

Applicants: Triolith Energy Fund L.P.

Description: Baseline eTariff Filing: Triolith Energy Fund LP Tariff to be effective 9/4/2015.

Filed Date: 9/1/15.

Accession Number: 20150901-5202.

Comments Due: 5 p.m. ET 9/22/15.

Docket Numbers: ER15-2591-000.

Applicants: PacifiCorp.

Description: Section 205(d) Rate Filing: OATT Revised Sections (EIM Available Balancing Capacity) to be effective 11/1/2015.

Filed Date: 9/1/15.

Accession Number: 20150901-5203.

Comments Due: 5 p.m. ET 9/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2015.
Nathaniel J. Davis, Sr.,
Deputy Secretary.

[FR Doc. 2015-22509 Filed 9-4-15; 8:45 am]

BILLING CODE 6717-01-P